DEPARTMENT OF THE TREASURY

Bureau of Alcohol, Tobacco and Firearms

[Docket No. 959; ATF O 1130.34]

Delegation of the Director's Authorities in 27 CFR Part 47, Importation of Arms, Ammunition and Implements of War

To: All Bureau Supervisors:

1. Purpose. This order delegates the Director's authorities to subordinate ATF officials and prescribes the subordinate ATF officials with whom persons file documents which are not ATF forms.

2. Background. Under current regulations, the Director has authority to take final action on matters relating to procedure and administration. The Bureau has determined that certain of these authorities should, in the interest of efficiency, be delegated to a lower organizational level.

3. Cancellation. This ATF order cancels the portion referring to part 47 of ATF O 1130.4, Delegation Order—Delegation of Certain Authorities of the Director in 27 CFR parts 47, 178, and 179, dated 1/15/97.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR part 47 to subordinate officials. Also, this ATF order prescribes the subordinate officials with whom applications, notices, and reports required by 27 CFR part 47, which are not ATF forms, are filed. The attached table identifies the regulatory sections, authorities and documents to be filed, and the subordinate ATF officials. The authorities in the table may not be redelegated.

5. Questions. If you have questions about this order, contact the Regulations Division at (202) 927-8210.

Bradley A. Buckles,
Director.

Regulatory section | Officer(s) authorized to act or receive document
§ 47.32(a) and (c) | Legal Instruments Examiner, Firearms and Explosives Imports Branch (FEIB).
§ 47.33 | Legal Instruments Examiner, FEIB.
§ 47.34(b) | Chief, FEIB, to prescribe retention period of less than 6 years. Director of Industry Operations to prescribe retention period of more than 6 years.
§ 47.35(a) | Chief, FEIB.
§ 47.42(a)(2) | Legal Instruments Examiner, FEIB.
§ 47.43(c) | Legal Instruments Examiner, FEIB.
§ 47.44(a) and (b) | Legal Instruments Examiner, FEIB, to deny; Chief, FEIB, to revoke, suspend or revise.
§ 47.44(c) | Chief, Firearms and Explosives Services Division.
§ 47.44(d) | Supervisory Legal Instruments Examiner, FEIB, to receive permits.
§ 47.51 | Legal Instruments Examiner, FEIB.
§ 47.52(b) | Legal Instruments Examiner, FEIB.
§ 47.52(f) | Legal Instruments Examiner, FEIB, to determine if documents are acceptable. Supervisory Legal Instruments Examiner, FEIB, with whom certification is filed, and to require additional documents.

BILLING CODE 4810-31-P

[FR Doc. 02-26679 Filed 10-18-02; 8:45 am]

BILLING CODE 4810-31-C